DEPARTMENT OF JUSTICE

Notice of Lodging of Consent Decree Between the United States of America and the City of Wakefield, NE Under the Clean Water Act

Under 28 CFR 50.7, notice is hereby given that on January 9, 2007, a proposed Consent Decree (Consent Decree) with Defendant City of Wakefield, Nebraska (City) in the case of United States v. the City of Wakefield, Nebraska and M.G. Waldbaum Co., Civil Action No. 8:07-cv-00014-TDT, has been lodged, concurrently with filing of a complaint, in the United States District Court for the District of Nebraska.

This Consent Decree resolves the United States' claims against the City under Sections 301 and 402 of the Clean Water Act, 33 U.S.C. 1311 and 1342, for violations of the effluent limitations and other conditions of the City's National Pollutant Discharge Elimination System (NPDES) Permit for its Publicly Owned Treatment Works (POTW). Under the terms of the decree, the City shall comply with the Clean Water Act and the terms of its NPDES permit and perform injunctive relief, including increased monitoring of the POTW. The City also agrees to pay civil penalties to the United States and the State of Nebraska totaling $20,000.

The Department of Justice will receive for a period of thirty (30) days from the date of this publication comments relating to the Consent Decree. Comments should be addressed to the Assistant Attorney General, Environment and Natural Resources Division, P.O. Box 7611, U.S. Department of Justice, Washington, DC 20044-7611, and should refer to United States v. the City of Wakefield, Nebraska and M.G. Waldbaum Co., Civil Action No. 8:07-cv-00014-TDT, D.J. Ref. 90-5-1-1-08346.

The Consent Decree may be examined at the Office of the United States Attorney, District of Nebraska, 1620 Dodge Street, Suite 1400, Omaha, Nebraska 68102-1506, and at the Environmental Protection Agency, Region 7, 901 N. 5th Street, Kansas City, Kansas 66101. During the public comment period, the Consent Decree may be examined on the following Department of Justice Web site: http://www.usdoj.gov/enrd/Consent_Decrees.html. A copy of the Consent Decree may also be obtained by mail from the Consent Decree Library, P.O. Box 7611, U.S. Department of Justice, Washington, DC 20044-7611, or by faxing or e-mailing a request to Tonia Fleetwood tonia.fleetwood@usdoj.gov, fax no. (202) 514-0097, phone confirmation number (202) 514-1547. In requesting a copy from the Consent Decree Library, please enclose a check in the amount of $10.50 (25 cents per page reproduction cost) payable to the United States Treasury for payment.

Robert E. Maher, Jr.,
Assistant Section Chief, Environmental Enforcement Section, Environment and Natural Resources Division, United States Department of Justice.

[FR Doc. 07-423 Filed 1-31-07; 8:45 am]

BILLING CODE 4410-15-M